DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.):

Applicant: Robert G. Pali, Laverock, PA, PRT-031956

The applicant requests a permit to import the sport-hunted trophy of one male bontebok (Damaliscus pygargus dorcas) culled from a captive herd maintained under the management program of the Republic of South Africa, for the purpose of enhancement of the survival of the species.

Applicant: Adam Radolinski, South Hales, NY, PRT-031958

The applicant requests a permit to import the sport-hunted trophy of one male bontebok (Damaliscus pygargus dorcas) culled from a captive herd maintained under the management program of the Republic of South Africa, for the purpose of enhancement of the survival of the species.

Applicant: Wildlife Conservation Society, Bronx, N.Y., PRT-024712

The applicant has requested amendment to their application for which notice was published on April 13, 2000/Vol. 65, No. 72, page 19918. The applicant wishes to increase the number of Kihansi spray toads to be imported from 100 to 500 from the Kihansi River Gorge area of Tanzania for the purpose of propagation for the enhancement of the survival of the species.

Applicant: Cleveland Metroparks Zoo, Cleveland, N.Y., PRT-032484

The applicant requests a permit to export five captive-held Andean condors (Vultur gryphus) to BIOANDINA, Merida, Venezuela, for the purpose of enhancement of the survival of the species through propagation, conservation education, and possible release to the wild.

Written data or comments should be submitted to the Director, U.S. Fish and Wildlife Service, Office of Management Authority, 4401 North Fairfax Drive, Room 700, Arlington, Virginia 22203 and must be received by the Director within 30 days of the date of this publication.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: August 18, 2000.
Charlie Chandler,
Chief, Branch of Permits, Office of Management Authority.

[FR Doc. 00-21689 Filed 8-23-00; 8:45 am]

BILLING CODE 4310-55-M